DEPARTMENT OF HOMELAND SECURITY

Coast Guard

[CGD 01-04-093]

Notice, Announcement of Public Meeting and Extension of Comment Period; Letter of Recommendation, LNG Facility Weaver's Cove, Fall River, MA

AGENCY: Coast Guard, DHS.

ACTION: Notice of meeting; and extension of public comment period.

SUMMARY: In response to public comments on the proposed LNG facility at Weaver's Cove, Fall River, MA, the Coast Guard is sponsoring a public hearing. Additionally, the Coast Guard is reopening the public comment period an additional 60 days. These actions will afford the public and the owner or operator additional time and opportunity to provide the Coast Guard with information regarding the proposed Weaver's Cove LNG Facility.

DATES: Comments and related material must reach the Coast Guard on or before January 25, 2005.

ADDRESSES: The Commanding Officer, U.S. Coast Guard Marine Safety Office Providence maintains the public docket for this notice. Comments and documents will become part of this docket and will be available for inspection and copying at the same address between 8 a.m. and 3 p.m. Monday through Friday, except Federal holidays. You may submit comments and related material by:

(1) Mail or delivery to Commanding Officer, U.S. Coast Guard Marine Safety Office, 20 Risho Avenue, East Providence, RI, 02914-1208.

(2) Fax to 401-435-2399

(3) Electronically via e-mail at EleBlanc@msoprov.uscg.mil.

The public hearing location is the Bristol Community College, Margaret Jackson Arts Center Theater, 777 Elsbree Street, Fall River, Massachusetts.

FOR FURTHER INFORMATION CONTACT: Mr. Edward G. LeBlanc at Coast Guard Marine Safety Office Providence, RI, 401-435-2351.

SUPPLEMENTARY INFORMATION:

Request for Comments

In accordance with the requirements in 33 CFR 127.009, the U.S. Coast Guard Captain of the Port (COTP) Providence is preparing a Letter of Recommendation as to the suitability of the Narragansett Bay waterways for liquefied natural gas (LNG) marine traffic. The Letter of Recommendation will be issued in response to a Letter of Intent to operate a LNG facility at Weaver's Cove, Fall River, Massachusetts. On September 1, 2004, the COTP Providence published a Federal Register notice seeking comments on the suitability of Narragansett Bay and the Taunton River to accommodate LNG marine traffic. (See the Federal Register, Vol. 69, No. 169, Wednesday, September 1, 2004, pages 53455-53457.) A total of 43 public comments were received by the November 1, 2004, deadline, and nearly all of them requested that the Coast Guard hold a public meeting. Consequently, the Coast Guard will sponsor a public hearing at the time and place described in the Public Meeting paragraph below. Additionally, the Coast Guard is reopening the public comment period an additional 60 days.

We encourage you to submit comments and related material pertaining specifically to the maritime operation and waterways management aspects of the proposed LNG facility. If you do so, please include your name and address, identify the docket number for this rulemaking (CGD01-04-093), and give the reason for each comment. You may submit your comments and material by mail, hand delivery, fax, or electronic means to the project officer at the addresses or phone numbers listed under FOR FURTHER INFORMATION CONTACT, but please submit your comments and material by only one means. If you submit them by mail or hand delivery, submit them in an unbound format, no larger than 8½ by 11 inches, suitable for copying and electronic filing. If you submit them by mail and would like to know that they reached U.S. Coast Guard Marine Safety Office Providence, please enclose a stamped, self-addressed postcard or envelope. We will consider all comments and material received during the comment period. The recommendation made by this office may be affected by comments received. Comments received after the original closing date of November 1, 2004, but before the new comment period, will be considered timely.

Public Meeting

We intend to hold a public meeting to receive comments on navigation safety issues pertaining to the proposed LNG facility at Weaver's Cove. The times, dates, and locations for this meeting are:

(1) 7 p.m., Thursday, December 9, 2004, at the Bristol Community College, Margaret Jackson Arts Center Theater, 777 Elsbree Street, Fall River, Massachusetts.

Additional Information

Additional information about the Weaver's Cove LNG project is available from FERC's Office of External Affairs at 1-866-208-FERC or on the FERC Internet Web site (http://www.ferc.gov) using the eLibrary link. Click on the eLibrary link, then click on “General Search” and enter FERC's docket number excluding the last three digits in the Docket Number field (i.e., CP04-36). For assistance, please contact FERC online support at FERCOnlineSupport@ferc.gov or toll free at 1-866-208-3676, or for TTY contact 1-202-502-8659.

Dated: November 15, 2004.
M.E. Landry,
Captain, U.S. Coast Guard, Captain of the Port, Providence.

[FR Doc. 04-26096 Filed 11-24-04; 8:45 am]

BILLING CODE 4910-15-P